DEPARTMENT OF THE INTERIOR

Bureau of Land Management

[LLOR-936000-L14300000-ET0000; HAG-11-0220; OROR-66533]

Notice of Application for Withdrawal and Public Meeting; Oregon; Correction

AGENCY: Bureau of Land Management, Interior.

ACTION: Notice; correction.

SUMMARY: The Bureau of Land Management (BLM) published a notice in the Federal Register on August 1, 2011 (76 FR 45848) that contained an incorrect deadline for making public comments and an incorrect location and time for a public meeting.

Correction:

On page 45848, in the first column, line 45, correct the DATES caption to read:

DATES: Comments must be received by November 30, 2011.”

On page 45848, in the second column, line 63, correct the date to read: “November 30, 2011.”

On page 45848, in the third column, line 19, correct the date and meeting location to read: “will be held on October 26, 2011, from 1 p.m. to 3 p.m. and from 6 p.m. to 8 p.m. at the Best Western Beachfront Inn, 16008 Boat Basin Road, Brookings, Oregon 97415.”

FOR FURTHER INFORMATION CONTACT: Michael L. Barnes, BLM Oregon/Washington State Office, 503-808-6155, or Kevin Johnson, U.S. Forest Service Pacific Northwest Region, 541-471-6727.

Fred O'Ferrall,
Chief, Branch of Land, Mineral, and Energy Resources.

[FR Doc. 2011-22763 Filed 9-6-11; 8:45 am]

BILLING CODE 4310-33-P